DEPARTMENT OF ENERGY

Federal Energy Regulatory Commission

[Docket No. RP01-172-005]

Mojave Pipeline Company; Notice of Report of Rate Refunds

April 2, 2002.

Take notice that on March 27, 2002, Mojave Pipeline Company (Mojave) tendered for filing its Report of Rate Refunds at Docket Nos. RP01-172-000, et al.

Mojave states that on March 1, 2002, it distributed refunds totaling $2,605,268.02, inclusive of interest, to eligible shippers.

Mojave states that a copy of this Report of Rate Refunds, except for the diskette and the Tab 3 refund detail, is being served upon all shippers on Mojave's system, and interested state regulatory commissions. Mojave states that copies of the pertinent refund detail, and capacity release detail if applicable, were included with each shipper's refund. Mojave has not furnished the refund detail under Tab 3 of this filing to all shippers and interested parties due to the commercially sensitive nature of such material.

Any person desiring to protest said filing should file a protest with the Federal Energy Regulatory Commission, 888 First Street, NE., Washington, DC 20426, in accordance with Section 385.211 of the Commission's Rules and Regulations. All such protests must be filed on or before April 9, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See 18 CFR 385.2001(a)(1)(iii) and the instructions on the Commission's web site under the “e-Filing” link.

Magalie R. Salas,
Secretary.

[FR Doc. 02-8409 Filed 4-5-02; 8:45 am]

BILLING CODE 6717-01-P